DEPARTMENT OF HOMELAND SECURITY

Transportation Security Administration

Extension of Agency Information Collection Activity Under OMB Review: Law Enforcement/Federal Air Marshal Service Physical and Mental Health Certification

AGENCY: Transportation Security Administration, DHS.

ACTION: 30-Day notice.

SUMMARY: This notice announces that the Transportation Security Administration (TSA) has forwarded the Information Collection Request (ICR), Office of Management and Budget (OMB) control number 1652-0043, abstracted below, to OMB for review and approval of an extension of the currently approved collection under the Paperwork Reduction Act (PRA). The ICR describes the nature of the information collection and its expected burden. The collection involves forms that applicants to, and incumbents in, the position of Federal Air Marshal (FAM) are required to complete regarding their physical and mental health history.

DATES: Send your comments by June 1, 2023. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@dhs.gov.

SUPPLEMENTARY INFORMATION: TSA published a Federal Register notice, with a 60-day comment period soliciting comments, of the following collection of information on January 25, 2023, 88 FR 4842.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement/Federal Air Marshal Service Physical and Mental Health Certification.

Type of Request: Extension of a currently approved collection.

OMB Control Number: 1652-0043.

Forms(s): TSA Form 1163, TSA Form 1164, TSA Form 1133-3.

Affected Public: Law Enforcement/Federal Air Marshal Service, FAM applicants and healthcare providers.

Abstract: TSA requires that applicants for FAM positions meet certain medical standards, including whether the individual has an established medical history or clinical diagnosis of psychosis, neurosis, or any other personality or mental disorder that clearly demonstrates a potential hazard to the performance of FAM duties or the safety of self or others. Information collected on TSA Form 1164, Mental Health Certification, is used to assess the eligibility and suitability of FAM applicants who have been issued a conditional offer of employment. The collection also includes the following additional forms to assist in the determination and in conjunction with further evaluation requests, as needed, for applicants of a FAMs position or incumbent FAMs: (1) TSA Form 1163, Treating Physician Status Report (TPSR), and (2) TSA Form 1133-3, Practical Exercise Performance Requirements (PEPR).

Number of Respondents: 200.

Estimated Annual Burden Hours: An estimated 225 hours annually.

Dated: April 27, 2023.
Christina A. Walsh,
TSA Paperwork Reduction Act Officer, Office of Information Technology.

[FR Doc. 2023-09257 Filed 5-1-23; 8:45 am]

BILLING CODE 9110-05-P